FEDERAL EMERGENCY MANAGEMENT AGENCY

Competitive Pre-Disaster Mitigation Grant Process

AGENCY: Federal Insurance and Mitigation Administration, Federal Emergency Management Agency.

ACTION: Notice and request for comments.

SUMMARY: The President's Fiscal Year (FY) 2003 budget proposal includes $300 million under the National Pre-Disaster Mitigation Fund to initiate a competitive grant program for pre-disaster mitigation. While Congress has not acted on the President's proposal, the Federal Emergency Management Agency (FEMA) is preparing to implement the program competitively if enacted by Congress. As part of a preliminary exploration of the issues, FEMA is soliciting ideas from all interested parties on the process for implementing the grant program on a competitive basis. During the comment period, FEMA also will hold meetings on this subject with invited representatives from the State and local stakeholders and overall emergency management profession for the purpose of obtaining a variety of individual opinions.

DATES: Comments must be received by September 30, 2002.

ADDRESSES: Please send written comments to the Rules Docket Clerk, Office of the General Counsel, Federal Emergency Management Agency, 500 C Street, SW., room 840, Washington DC 20472, (facsimile) 202-646-4536, or (e-mail) rules@fema.gov.

FOR FURTHER INFORMATION CONTACT: Terry Baker, Federal Emergency Management Agency, Federal Insurance and Mitigation Administration, 500 C Street, SW., Washington, DC 20472, (202) 646-4648 or e-mail Terry.Baker@fema.gov.

SUPPLEMENTARY INFORMATION: The President's FY 2003 budget proposal includes $300 million to initiate a competitive pre-disaster mitigation grant program, which would replace the formula-based Hazard Mitigation Grant Program for FY 2003.

This proposed funding would represent a change in funding source for mitigation (annual funding versus funding linked to disasters), but would continue to support the goals of the Disaster Mitigation Act of 2000. While there are specific mitigation opportunities that occur immediately after a disaster, an annual grant program that provided a consistent source of funding would allow States and communities to develop more comprehensive proposals and projects to reduce their overall risks. Communities would no longer be dependent on a disaster declaration in order to obtain a FEMA mitigation grant. However, FEMA would continue to work with State and local governments to take advantage of post-disaster mitigation opportunities.

The President's budget proposal outlines a program whereby grants would be awarded on a competitive basis to ensure that the most worthwhile, cost-beneficial projects receive funding. Funded activities would reduce the risks of future damage in hazard prone areas, thereby reducing the need for future disaster assistance. Grant awards would be made without reference to State allocations, quotas or other formula-based allocation of funds. Consistent with funding available under the FY 2002 Pre-Disaster Mitigation grant program, authorized by § 203 of the Robert T. Stafford Disaster Assistance and Emergency Relief Act, eligible activities under a competitive grant program would include: risk assessments; State and local mitigation planning; the reinforcement of structures against seismic, wind, and other hazards; elevation, acquisition, or relocation of flood-prone structures; and minor flood control or drainage management projects.

State emergency management authorities currently play an essential role in the implementation of all of FEMA mitigation grant programs. They provide technical assistance to communities, solicit and review applications, and coordinate statewide mitigation activities. FEMA's Pre-Disaster Mitigation implementation strategy will include the States, and we will collaborate with our State and local partners and stakeholders to develop a means for competitive review of grant proposals.

Although FEMA does not know whether this proposal for a competitive pre-disaster mitigation grant program will be included in the FY 2003 appropriations or what our authority will be in implementing such a program, we would like to prepare for the possibility by gathering comments on the proposal from our partners and stakeholders. In preliminary exploration of the issues surrounding design of the President's proposed Competitive Pre-Disaster Mitigation grant program, FEMA is soliciting responses to the following questions:

1. What key factors should FEMA consider in developing a competitive grant program?

2. What role should the States play in a competitive grant process?

3. If FEMA was authorized to set aside funds for States in addition to the competitive process, do you think there should be a set aside that States could depend on annually to maintain a level of capability in mitigation? What types of activities should be eligible for such funding?

4. Should mitigation planning funds be set aside for States in addition to competitive pre-disaster mitigation grants?

5. How could FEMA ensure that funds would be spent to address all hazards?

6. Should activities addressing multi-hazard vs. single hazard be more heavily weighted in a ranking system?

7. What methodologies could FEMA use to distribute funding based on risk?

8. How could the evaluation of applications be designed to ensure that the most worthwhile, cost-beneficial projects receive funding?

9. What should FEMA consider in addition to cost benefit analysis in developing a ranking system to evaluate applications (e.g., repetitive loss, life safety)?

10. What factors does FEMA need to consider in developing a process where agencies such as departments of economic development or natural resources were encouraged to engage in natural hazard risk reduction by applying for a competitive pre-disaster mitigation grant?

11. Should there be a cap on project costs in order to ensure a broader distribution of funds? How would a project cap amount be determined?

Dated: July 31, 2002.
Robert F. Shea,
Deputy Administrator for Mitigation, Federal Insurance and Mitigation Administration.

[FR Doc. 02-19792 Filed 8-5-02; 8:45 am]

BILLING CODE 6718-04-P